BUREAU OF CONSUMER FINANCIAL PROTECTION

Proposed Collection; Comment Request

AGENCY: Bureau of Consumer Financial Protection.

ACTION: Notice and request for public comment.

SUMMARY: The Bureau of Consumer Financial Protection (Bureau), as part of its continuing effort to reduce paperwork and respondent burden, invites the general public and other Federal agencies to take this opportunity to comment on proposed and/or continuing information collections, as required by the Paperwork Reduction Act of 1995, Public Law 104-13. Currently, the Bureau is soliciting comments concerning the information collection requirements related to evaluating the training programs and practices involved in training front-line case managers to provide information and education designed to improve the financial outcomes and capability of consumers, particularly low-income consumers, pursuant to the Bureau's authorities under the Dodd-Frank Wall Street Reform and Consumer Protection Act, Public Law No. 111-203 (Dodd-Frank Act).

DATES: Written comments are encouraged and must be received on or before April 1, 2013 to be assured of consideration.

ADDRESSES: You may submit comments by any of the following methods:

• Electronic: CFPB_Public_PRA@cfpb.gov.

• Mail/Hand Delivery/Courier: Direct all written comments to Consumer Financial Protection Bureau (Attention: PRA Office), 1700 G Street NW., Washington, DC 20552.

Instructions: Submissions should include agency name and Program Evaluation of Financial Empowerment Training Programs Comments will be available for public inspection and copying at 1700 G Street NW., Washington, DC 20552 on official business days between the hours of 10 a.m. and 5 p.m. Eastern Time. You can make an appointment to inspect comments by telephoning (202) 435-9575. All comments, including attachments and other supporting materials, will become part of the public record and subject to public disclosure. For this reason, please do not include in your comments information of a confidential nature, such as sensitive personal information or proprietary information. You should only submit information that you wish to make available publicly.

FOR FURTHER INFORMATION CONTACT: Requests for additional information or copies of the documents contained under this approval number should be directed to the Consumer Financial Protection Bureau, (Attention: PRA Office), 1700 G Street NW., Washington, DC 20552, (202) 435-9575, or through the internet at CFPB_Public_PRA@cfpb.gov.

SUPPLEMENTARY INFORMATION: Title: Clearance for Program Evaluation of Financial Empowerment Training Programs.

OMB Number: 3170-XXXX.

Summary of Collection: The Bureau's Office of Financial Empowerment (Empowerment) is responsible for developing strategies to improve the financial capability of low income and economically vulnerable consumers. The proposed collections will focus on evaluating (1) for recruitment purposes, the cohort of organization-based trainers that will pilot and perform the training; (2) the training practices and programs that are designed to enhance the ability of caseworkers to inform and educate low income consumers about managing their finances and strategies for making choices among available financial products and services available to them; (3) the evaluation tool that the trainers will use to determine the effectiveness of the training; and (4) the scope of workshop participants' use of the training. The Bureau expects to collect qualitative data through in-person, telephone, or Internet based surveys. The information collected through qualitative evaluation methods will increase the Bureau's understanding of what elements of training programs and practices can improve caseworker interaction with and assistance to their clients in ways that can improve outcomes for consumers, particularly low income.

Type of Review: New Collection.

Affected Public: Individuals, government social services entities, and not-for-profit institutions.

Annual Burden Estimates: Below is a preliminary estimate of the aggregate burden hours for the evaluation training programs and practices.

Data collection activity | Timing of data collection | Proposed information collected | Respondents: Type | Respondents: Number | Respondents: Burden per | Respondents: Total burden
(1) Recruitment Information Form | Once during recruitment process, before initial training is held | Information relevant to the selection of pilot trainers for the field test | Potential Pilot Trainers | 50 | 10 minutes | 8 hours, 20 minutes.
(2) Evaluation Surveys from Pilot Trainers | Immediately following case manager trainings held by pilot trainers | Pilot trainers' reactions to the training toolkit after they have used it to train case managers, including: • Description of how the toolkit was used, including which modules were used and whether any modifications were made | Pilot Trainers | 25 | 20 minutes | 8 hours, 20 minutes.
|  | • Description of the audience of the training (e.g., organization for whom the participants work, their target client audience)
|  | • Perceived engagement/reaction of case managers
|  | • Any problems/concerns that arose as they used the toolkit (e.g., gaps that need to be filled)
|  | • Suggestions for how the toolkit could be improved
(3) Training Evaluation Forms | Immediately following case manager trainings held by pilot trainers | Case managers' reactions to the training they received, including: • Clarity of information • Usefulness of content • Extent to which they expect to use the resources/materials provided | Case Managers Trained by Pilot Trainers | ¹ 1,250 | 15 minutes | 31 hours, 15 minutes.
|  | • Extent to which they feel more comfortable discussing financial topics with clients, and the impact of the training on their comfort level
|  | • Feedback on training tools and suggestions for improvement
|  | • Feedback on knowledge and skill of the pilot trainer
(4) Telephone Focus Groups | End of six-month field test period | Get pilot trainers' feedback on the effectiveness of the toolkit through one or more telephone focus groups.² Topics would include: | Pilot Trainers | 25 | 1 hour | 25 hours.
|  | • Their experiences conducting trainings using the toolkit
|  | • Strengths and weaknesses of the toolkit
|  | • Perceived reaction of case managers to toolkit content
(5) Recruitment Information Form | Once during recruitment process, before initial training is held | Information relevant to the selection of organizations for Phase 2 | Potential organization-based Trainers | 20 | 30 minutes | 10 hours.
(6) Evaluation Surveys from Phase 2 Trainers | Immediately following trainings led by trainers | Phase 2 Trainers' reactions to the training toolkit after they have used it to train case managers, including: | Trainers | ³ 20 | 20 minutes | 6 hours, 40 minutes.
|  | • Description of how the toolkit was used, including which modules were used and whether any modifications were made
|  | • Description of the audience of the training (e.g., organization for whom the participants work, their target client audience)
|  | • Description of mode of delivery (in person, webinar, etc.)
|  | • Perceived engagement/reaction of case managers
|  | • Any problems/concerns that arose as they used the toolkit (e.g., gaps that need to be filled)
(7) Case Manager Log | Three months and six months from date of case manager training | Information about case managers' use of what they learned through the trainings, including: | Case Managers trained by pilot trainers and Phase 2 trainers | 7,000 | 10 minutes for each of two surveys | 4,666 hours and 40 minutes.
|  | • Number of clients with whom they have discussed financial information
|  | • Number of referrals they have made to other financial resources (e.g., counselors)
|  | • Any problems or obstacles encountered (e.g., client requests that case manager did not know how to address)
(8) Survey of Case Managers | End of six-month field test period | Final input from case managers on the utility of what they learned through the training, including: | Case Managers | 7,000 | 10 minutes | 116 hours, 40 minutes.
|  | • Extent to which they have found the training they received to be relevant to their work
|  | • Their comfort level discussing financial topics with clients, and how their comfort level changed after attending the training
|  | • Extent to which they believe the training they received has impacted their work, and how
¹ Based on assumption that each trainer will hold workshops that train 50 case managers.
² While similar information would be collected through the pilot trainer evaluation forms that the pilot trainers complete after holding each of their case manager trainings, we believe that focus group discussions might elicit additional insights from the pilot trainers, and would also allow for collection of more detailed information and participant suggestions.
³ Based on assumption of two trainers per organization selected.

Request for Comments

Comments submitted in response to this notice will be summarized and/or included in the request for OMB approval. All comments will become a matter of public record. Comments are invited on: (a) Whether the collection of information is necessary for the proper performance of the functions of the Bureau, including whether the information shall have practical utility; (b) The accuracy of the Bureau's estimate of the burden of the collection of information, including the validity of the methodology and the assumptions used; (c) Ways to enhance the quality, utility, and clarity of the information to be collected; and (d) Ways to minimize the burden of the collection of information on respondents, including through the use of automated collection techniques or other forms of information technology.

An agency may not conduct or sponsor, and a person is not required to respond to, a collection of information unless it displays a currently valid Office of Management and Budget control number.

Dated: January 17, 2013.
Chris Willey,
Chief Information Officer, Bureau of Consumer Financial Protection.

[FR Doc. 2013-01439 Filed 1-28-13; 8:45 am]

BILLING CODE 4810-AM-P